DEPARTMENT OF THE TREASURY

United States Mint

Notification of United States Mint 2010 Commemorative Coin Pricing

ACTION: Notification of United States Mint 2010 Commemorative Coin Pricing.

SUMMARY: The United States Mint is announcing the prices of the 2010 American Veterans Disabled for Life Silver Dollar and the 2010 Boy Scouts of America Centennial Silver Dollar Programs.

Public Laws 110-227 and 110-363 require the United States Mint to mint and issue American Veterans Disabled for Life and Boy Scouts of America Centennial Silver Dollar Commemorative Coins, respectively. These coins will be offered in both proof and uncirculated conditions.

The American Veterans Disabled for Life Silver Dollar will be offered at an introductory price on February 25, 2010, through March 29, 2010, when it will be offered at regular pricing. The Boy Scouts of America Centennial Silver Dollar will be offered at an introductory price on March 23, 2010, through April 22, 2010, when it will be offered at regular pricing. Pricing for standard options under both programs is listed below:

Description | Introductory price | Regular price
American Veterans Disabled for Life Silver Dollar:
Proof Silver Dollar | $39.95 | $43.95
Uncirculated Silver Dollar | 33.95 | 35.95
Boy Scouts of America Centennial Silver Dollar:
Proof Silver Dollar | 39.95 | 43.95
Uncirculated Silver Dollar | 33.95 | 35.95

FOR FURTHER INFORMATION CONTACT: B.B. Craig, Associate Director for Sales and Marketing; United States Mint; 801 9th Street, NW.; Washington, DC 20220; or call 202-354-7500.

Authority: 31 U.S.C. 5111, 5112 & 9701.

Dated: January 21, 2010.
Edmund C. Moy,
Director, United States Mint.

[FR Doc. 2010-1602 Filed 1-26-10; 8:45 am]

BILLING CODE 4810-02-P